DEPARTMENT OF COMMERCE

International Trade Administration

[A-570-836]

Glycine From the People's Republic of China: Notice of Court Decision Not in Harmony With Final Results of the Antidumping Duty Administrative Review; 2010-2011

AGENCY: Enforcement and Compliance, International Trade Administration, Department of Commerce.

SUMMARY: The Court of International Trade (CIT or Court) sustained the final remand results pertaining to the administrative review of the antidumping duty order on glycine from the People's Republic of China (China), covering the period of March 1, 2010, through February 28, 2011. The Department of Commerce (Commerce) is notifying the public that the final judgment in this case is not in harmony with Commerce's final results of the administrative review and that Commerce is amending the final results with respect to the dumping margin assigned to Baoding Mantong Fine Chemistry Co. Ltd. (Baoding Mantong).

DATES: Applicable January 26, 2018.

FOR FURTHER INFORMATION CONTACT: Madeline Heeren or Edythe Artman, AD/CVD Operations, Office VI, Enforcement and Compliance, International Trade Administration, U.S. Department of Commerce, 1401 Constitution Avenue NW, Washington, DC 20230; telephone: (202) 482-9179 or (202) 482-3931, respectively.

SUPPLEMENTARY INFORMATION:

Background

On October 18, 2012, Commerce published the Final Results,¹ in which it determined Baoding Mantong to have a weight-averaged dumping margin of 453.79 percent for the period under review. On November 3, 2015, the Court remanded these results to Commerce for reconsideration of all aspects of its determination of the margin assigned to Baoding Mantong in the Final Results.² In the final results of redetermination, Commerce relied on surrogate financial information that resulted in a dumping margin of 64.97 percent.³ On April 19, 2017, the Court remanded the revised results to Commerce for reconsideration of the selection of certain surrogate values in its determination of the margin assigned to Baoding Mantong.⁴ In its second final results of redetermination, Commerce revised the surrogate values for three inputs—liquid ammonia, formaldehyde and steam coal—which resulted in a dumping margin of 0.00 percent.⁵ On December 20, 2017, the Court sustained the Second Results of Redetermination.⁶

¹ See Glycine from the People's Republic of China: Final Results of Antidumping Duty Administrative Review, 77 FR 64100 (October 18, 2012) (Final Results).

² See Baoding Mantong Fine Chemistry Co., Ltd. v. United States, Court No. 12-00362, Slip Op. 15-123 (CIT November 3, 2015).

³ See “Final Results of Redetermination Pursuant to Court Remand,” dated March 29, 2017.

⁴ See Baoding Mantong Fine Chemistry Co., Ltd. v. United States, Court No. 12-00362, Slip Op. 17-44 (CIT April 19, 2017).

⁵ See“Final Results of Redetermination Pursuant to Court Remand,” dated July 18, 2017 (Second Results of Redetermination).

⁶ See Baoding Mantong Fine Chemistry Co., Ltd. v. United States, Court No. 12-00362, Slip Op. 17-169 (CIT December 20, 2017).

Timken Notice

In its decision in Timken,⁷ as clarified by Diamond Sawblades,⁸ the Court of Appeals for the Federal Circuit held that, pursuant to section 516A(e) of the Tariff Act of 1930, as amended (the Act), Commerce must publish a notice of a court decision that is not “in harmony” with a Commerce determination and must suspend liquidation of entries pending a “conclusive” court decision. The CIT's December 20, 2017, final judgment sustaining the Second Results of Redetermination constitutes a final decision of the Court that is not in harmony with Commerce's Final Results. This notice is published in fulfillment of the Timken publication requirements. Accordingly, Commerce will continue the suspension of liquidation of the subject merchandise pending a final and conclusive court decision.

⁷ See Timken Co. v. United States, 893 F.2d 337 (Fed. Cir. 1990) (Timken).

⁸ See Diamond Sawblades Mfrs. Coalition v. United States, 626 F.3d 1374 (Fed. Cir. 2010) (Diamond Sawblades).

Amended Final Results of Review

Because there is now a final court decision, Commerce is amending the Final Results with respect to the dumping margin calculated for Baoding Mantong. Based on the Second Results of Redetermination, as sustained by the CIT, the revised dumping margin for Baoding Mantong, for the period March 1, 2010, through February 28, 2011, is as follows:

Producer or exporter | Weighted- average dumping margin (percent)
Baoding Mantong Fine Chemistry Co. Ltd. | 0.00

In the event the Court's ruling is not appealed or, if appealed, upheld by a final and conclusive court decision, Commerce will instruct the U.S. Customs and Border Protection to assess antidumping duties on unliquidated entries of subject merchandise with respect to Baoding Mantong.

Cash Deposit Requirements

Since the Final Results, Commerce has established a new cash deposit rate for Baoding Mantong.⁹ Therefore, the cash deposit rate for Baoding Mantong will remain the company-specific rate established for it in a subsequent and most recently completed administrative review.¹⁰

⁹ See Glycine from the People's Republic of China: Final Results of Antidumping Duty Administrative Review and Partial Rescission of Antidumping Duty Administrative Review; 2013-2014, 80 FR 62027 (October 15, 2015).

¹⁰ Id. at 62028.

Notification to Interested Parties

This notice is issued and published in accordance with sections 516A(e)(1), 751(a)(1), and 777(i)(1) of the Act.

Dated: January 17, 2018.
Gary Taverman,
Deputy Assistant Secretary for Antidumping and Countervailing Duty Operations, Performing the Non-Exclusive Functions and Duties of the Assistant Secretary for Enforcement and Compliance.

[FR Doc. 2018-01445 Filed 1-25-18; 8:45 am]

BILLING CODE 3510-DS-P